SMALL BUSINESS ADMINISTRATION

Military Reservist Economic Injury Disaster Loans Interest Rate for Second Quarter FY 2016

In accordance with the Code of Federal Regulations 13—Business Credit and Assistance § 123.512, the following interest rate is effective for Military Reservist Economic Injury Disaster Loans approved on or after January 22, 2016.

Military Reservist Loan Program 4.000%.

Dated: January 21, 2016.
James E. Rivera,
Associate Administrator for Disaster Assistance.

[FR Doc. 2016-01880 Filed 2-1-16; 8:45 am]

BILLING CODE P